DEPARTMENT OF HEALTH AND HUMAN SERVICES

Administration for Children and Families

Office of Planning, Research and Evaluation; Grant to the National Center for Appropriate Technology

AGENCY: Office of Planning, Research and Evaluation, ACF, DHHS.

ACTION: Award Announcement.

SUMMARY: Notice if hereby given that a noncompetitive grant award is being made to the National Center for Appropriate Technology (NCAT) to develop a national energy deregulation clearinghouse.

As a Congressional set-aside, this one-year project is being funded noncompetitively. The National Center for Appropriate Technology is uniquely qualified to conduct this project because of their prior experience in analyzing energy-related issues affecting residential consumers with low and moderate incomes. The cost of this one-year project is $150,000.

FOR FURTHER INFORMATION CONTACT: Charlotte Abney, Administration for Children and Families, Office of Community Services, 370 L'Enfant Promenade, SW, Washington, DC. 20447, telephone: 202-401-5334.

Dated: April 26, 2002.
Howard Rolston,
Director, Office of Planning, Research and Evaluation.

[FR Doc. 02-11798 Filed 5-10-02; 8:45 am]

BILLING CODE 4184-01-M